ENVIRONMENTAL PROTECTION AGENCY

40 CFR Parts 86 and 1037

[EPA-HQ-OAR-2019-0055; FRL-7165-04-OAR]

RIN 2060-AU41

Control of Air Pollution From New Motor Vehicles: Heavy-Duty Engine and Vehicle Standards; Correction

AGENCY: Environmental Protection Agency (EPA).

ACTION: Final rule; correction.

SUMMARY: EPA is issuing a correction to a final rule published in the Federal Register of Tuesday, January 24, 2023, which will be effective March 27, 2023. The final rule established new emission standards for heavy-duty highway engines, along with several amendments for a wide range of highway and nonroad engines and vehicles. This document corrects two amendatory instructions. These corrections do not include any substantive change to the final rule.

DATES: This correction is effective March 27, 2023.

ADDRESSES: Docket: EPA has established a docket for this action under Docket ID No. EPA-HQ-OAR-2019-0055. Publicly available docket materials are available either electronically at www.regulations.gov or in hard copy at Air and Radiation Docket and Information Center, EPA Docket Center, EPA/DC, EPA WJC West Building, 1301 Constitution Ave. NW, Room 3334, Washington, DC. Out of an abundance of caution for members of the public and our staff, the EPA Docket Center and Reading Room are open to the public by appointment only to reduce the risk of transmitting COVID-19. Our Docket Center staff also continues to provide remote customer service via email, phone, and webform. Hand deliveries and couriers may be received by scheduled appointment only. For further information on EPA Docket Center services and the current status, please visit us online at www.epa.gov/dockets.

FOR FURTHER INFORMATION CONTACT: Alan Stout, Assessment and Standards Division, Office of Transportation and Air Quality, Environmental Protection Agency, 2000 Traverwood Drive, Ann Arbor, MI 48105; telephone number: (734) 214-4805; email address: stout.alan@epa.gov.

SUPPLEMENTARY INFORMATION: EPA is making two corrections for inadvertent errors in the amendatory instructions for the final rule:

• Instruction 42 refers to removing 40 CFR part 86, subpart I, for smoke test procedures, but mistakenly identifies section numbers associated with 40 CFR part 86, subpart L, instead of the section numbers associated with 40 CFR part 86, subpart I.

• Instruction 104 refers to amending 40 CFR 1037.125(a), but should have referred more specifically to amending 40 CFR 1037.125 (a) introductory text.

Section 553(b)(B) of the Administrative Procedure Act, 5 U.S.C. 553(b)(B), provides that, when an agency for good cause finds that public notice and comment procedures are impracticable, unnecessary, or contrary to the public interest, the agency may issue a rule without providing notice and an opportunity for public comment. EPA has determined that there is good cause for making this technical correction final without prior proposal and opportunity for comment because such notice and opportunity for comment is unnecessary as the technical correction is for minor typographical, non-substantive errors only.

Correction

In FR Doc. 2022-27957 appearing on page 4296 in the Federal Register of Tuesday, January 24, 2023, the following are corrections are made.

§§ 86.884-1 through 86.884-14 [Removed and Reserved]

1. On page 4475, in the second column, amendatory instruction 42 is corrected to read “42. Subpart I, consisting of §§ 86.884-1 through 86.884-14, is removed and reserved.”

§ 1037.125 [Corrected]

2. On page 4637, in the third column, amendatory instruction 104 is corrected to read “104. Amend § 1037.125 by revising paragraphs (a) introductory text and (d) to read as follows:”.

Joseph Goffman,
Principal Deputy Assistant Administrator, Office of Air and Radiation.

[FR Doc. 2023-05000 Filed 3-10-23; 8:45 am]

BILLING CODE 6560-50-P